ENVIRONMENTAL PROTECTION AGENCY

[FRL-8924-5]

Proposed CERCLA Section 122(g) Administrative Agreement for De Minimis Settlement for the Consolidated Iron and Metal Co. Superfund Site, City of Newburgh, Orange County, NY

AGENCY: Environmental Protection Agency (EPA).

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region 2, of a proposed de minimis administrative agreement pursuant to section 122(g) of CERCLA, 42 U.S.C. 9622(g), between EPA and the Town of Rhinebeck (“the Town”), Dutchess County, New York, pertaining to the Consolidated Iron and Metal Co. Superfund Site (“Site”) located in the City of Newburgh, Orange County, New York. Under the settlement, the Town will pay $49,907.23 to the EPA Hazardous Substance Superfund Consolidated Iron and Metal Co. Site Special Account, which is considered to be its fair share of past and future cleanup costs, plus a “premium” for uncertainties associated with the Site. The settlement includes a covenant not to sue pursuant to sections 106 and 107 of CERCLA, 42 U.S.C. 9606 and 9607, relating to the Site, and protection from contribution actions or claims as provided by sections 113(f)(2) and 122(g)(5) of CERCLA, 42 U.S.C. 9613(f)(2) and 9622(g)(5). EPA will receive written comments relating to the settlement for thirty (30) days following publication of this notice. EPA will consider all comments received and may modify or withdraw its consent to the settlement if comments received disclose facts or considerations that indicate that the proposed settlement is inappropriate, improper, or inadequate. EPA's response to any comments received will be available for public inspection at EPA Region 2, 290 Broadway, New York, New York 10007-1866.

DATES: Comments must be submitted on or before July 30, 2009.

ADDRESSES: The proposed settlement is available for public inspection at EPA Region 2 offices at 290 Broadway, New York, New York 10007-1866. Comments should reference the Consolidated Iron and Metal Co. Superfund Site, Index No. CERCLA-02-2009-2001. To request a copy of the proposed settlement agreement, please contact the individual identified below.

FOR FURTHER INFORMATION CONTACT: Carol Y. Berns, Assistant Regional Counsel, New York/Caribbean Superfund Branch, Office of Regional Counsel, EPA Region 2, 17th Floor, 290 Broadway, New York, New York 10007-1866. Telephone: 212-637-3177.

Dated: June 17, 2009.
Walter Mugdan,
Director, Emergency and Remedial Response Division, Region 2.

[FR Doc. E9-15419 Filed 6-29-09; 8:45 am]

BILLING CODE 6560-60-P